DEPARTMENT OF DEFENSE

Department of the Air Force

[Docket ID USAF-2008-0026]

Privacy Act of 1974; System of Records

AGENCY: Department of the Air Force, DoD.

ACTION: Notice to add a system of records.

SUMMARY: The Department of the Air Force is proposing to add a system of records to its inventory of record systems subject to the Privacy Act of 1974 (5 U.S.C. 552a), as amended.

DATES: This action will be effective on December 12, 2008 unless comments are received that would result in a contrary determination.

ADDRESSES: Send comments to the Air Force Privacy Act Officer, Office of Warfighting Integration and Chief Information Officer, SAF/XCISI, 1800 Air Force Pentagon, Suite 220, Washington, DC 20330-1800.

FOR FURTHER INFORMATION CONTACT: Mr. Kenneth Brodie at (703) 696-7557.

SUPPLEMENTARY INFORMATION: The Department of the Air Force notices for systems of records subject to the Privacy Act of 1974 (5 U.S.C. 552a), as amended, have been published in the Federal Register and are available from the address above.

The proposed systems reports, as required by 5 U.S.C. 552a(r) of the Privacy Act of 1974, as amended, were submitted on October 21, 2008, to the House Committee on Government Oversight and Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: November 3, 2008.
Morgan E. Frazier,
Alternate OSD Federal Register Liaison Officer, Department of Defense.

FO24 AF USTRANSCOM D DoD

System name:

Defense Transportation System Records.

System location:

Installation Transportation Offices, Joint Personal Property Shipping Offices, Aerial and Surface Ports of Embarkation, world-wide. Addresses may be obtained from the Commander, Headquarters, Military Surface Deployment and Distribution Command, 709 Ward Drive, Building 1990, Scott Air Force Base IL 62225-5004.

Categories of individuals covered by the system:

DoD personnel (military and civilian) and dependents (as applicable) with official authorization.

Categories of records in the system:

Individual's name, rank, unit identification code (UIC), Service affiliation, personal identifiers (i.e. Social Security Number (SSN), home address, home telephone, emergency contact information) and other information relating to personnel and movement of personal property.

Authority for maintenance of the system:

Public Law 100-562, Imported Vehicle Safety Compliance Act of 1988; 5 U.S.C. 5726, Storage Expenses, Household Goods and Personal Effects; 10 U.S.C. 113, Secretary of Defense; 10 U.S.C. 3013, Secretary of the Army; 10 U.S.C. 5013, Secretary of the Navy; 10 U.S.C. 8013, Secretary of the Air Force, 19 U.S.C. 1498, Entry Under Regulations; 37 U.S.C. 406, Travel and Transportation Allowances, Dependents, Baggage and Household Effects; Federal Acquisition Regulation (FAR); Joint Federal Travel Regulation (JTR), Volumes I and II, DoD Directive 4500.9E, Transportation and Traffic Management; DOD Directive 5158.4, United States Transportation Command; DoD Instruction 4500.42, DoD Transportation Reservation and Ticketing Services; DoD Regulation 4140.1, DoD Materiel Management Regulation; DoD Regulation 4500.9, Defense Transportation Regulation; and DoD Regulation 4515.13-R, Air Transportation Eligibility and E.O. 9397 (SSN).

Purposes:

To schedule the movement of DoD personnel (military and civilian) and dependents traveling in the Defense Transportation System; schedule the movement, storage, and handling of personal property; to identify and trace lost shipments; to submit claims for damaged or loss shipments; U.S. customs protection of personal property; payment of commercial transportation providers under contract and tenders to the DoD; monitor effectiveness of personal property traffic management functions.

In addition to those disclosures generally permitted under 5 U.S.C. 552a(b) of the Privacy Act, these records or information contained therein may specifically be disclosed outside the DoD as a routine use pursuant to 5 U.S.C. a(b)(3) as follows:

Routine Uses of records maintained in the system, including categories of users and the purposes of such uses:

To disclose to private sector commercial transportation service providers, who are under contract with the DoD for shipment/storage of personal property, to identify ownership, schedule pick up and delivery of personal property, to include privately owned vehicles, motorcycles, and house trailers/motor homes, Bill of Lading for services rendered, personal property counseling checklist.

To U.S. Customs and Border Protection Declaration for personal property shipments, re-weigh of personal property, shipment evaluation and inspection reports, receipt for unaccompanied baggage, mobile home inspection record, temporary commercial storage at Government expense, accessorial services-mobile home, report of contractor services, and claims for loss and damage.

To manifest DoD personnel and dependents (as applicable) traveling in the Defense Transportation System with official DoD authorization.

To provide emergency contact information to the designated authorized carrier under DoD contract and DoD authorizing activity, in the event of an emergency.

To disclose information to a Federal agency in order to manage and optimize DoD transportation resources.

To the Department of State to locate DoD personnel and dependents (as applicable) with official DoD authorization moving within the Defense moving within the Defense Transportation System within foreign countries.

To disclose information to a Federal agency for accumulating reporting data and monitoring of the system.

To General Service Administration and Defense Government Accounting Activities for processing government Bill of Lading.

The Department of Defense “Blanket Routine Uses” published at the beginning of the Air Force's compilation of systems of records notices apply to this system.

Policies and practices for storing, retrieving, accessing, retaining, and disposing of records in the system:

Storage:

Paper records in file folders and electronic storage media.

Retrievability:

Individual's Surname and Social Security Number (SSN).

Safeguards:

Records are maintained in a secured environment accessible to authorized personnel having an official need-to-know. Automated segments are further protected by secure log-in, passwords, and Common Access Card.

Retention and disposal:

Documents are destroyed after 6 years.

System Manager and address:

Commander, United States Transportation Command, Attn: TCJ5/4, 508 Scott Drive, Scott AFB, IL 62225-5357.

Notification procedure:

Individuals seeking access to information about themselves contained in this system should address written inquiries to Air Force Privacy Act Officer, Officer of Warfighting Integration and Chief Information Officer, SAF/XCISI, 1800 Air Force Pentagon, Suite 220, Washington, DC 20330-1800.

Requests should contain full name, social security number (SSN), current address and telephone number, and any information which will assist in locating the records requested (e.g. type of shipment, origin, destination, date of application).

Contesting record procedures:

The Department of the Air Force's rules for assessing records, for contesting contents an appealing initial agency determinations are published in AFI 33-332, 32 CFR part 806b, or may be obtained from the system manager.

Record source categories:

From the individual completing application for entry into the Defense Transportation System and from the private sector transportation service provider.

Exemptions claimed for the system:

None.

[FR Doc. E8-26765 Filed 11-10-08; 8:45 am]

BILLING CODE 5001-06-P